Title 3—

The President

Executive Order 13371 of January 27, 2005

Amendments to Executive Order 13285, Relating to the President's Council on Service and Civic Participation

By the authority vested in me as President by the Constitution and the laws of the United States of America, and in order to modify the mission and functions of the President's Council on Service and Civic Participation (Council) and to extend the Council, it is hereby ordered that Executive Order 13285 of January 29, 2003, is amended as follows:

Section 1. (a) Sections 2(a) and 2(b) of Executive Order 13285 are revised to read as follows: “(a) The mission and functions of the Council shall be to:

(i) promote volunteer service and civic participation in American society;

(ii) encourage the recognition of outstanding volunteer service through the presentation of the President's Volunteer Service Award by Council members and Certifying Organizations, thereby encouraging more such activity;

(iii) promote the efforts and needs of local non-profits and volunteer organizations, including volunteer centers;

(iv) promote greater public access to information about existing volunteer opportunities, including via the Internet;

(v) assist with the promotion of Federally administered volunteer programs and the link that they have to increasing and strengthening community volunteer service; and

(vi) promote increased and sustained private sector sponsorship of and engagement in volunteer service.

(b) In carrying out its mission, the Council shall:

(i) encourage broad participation in the President's Volunteer Service Award program by qualified individuals and groups, especially students in primary schools, secondary schools, and institutions of higher learning;

(ii) exchange information and ideas with interested individuals and organizations on ways to expand and improve volunteer service and civic participation;

(iii) advise the Chief Executive Officer of the CNCS on broad dissemination, especially among schools and youth organizations, of information regarding recommended practices for the promotion of volunteer service and civic participation, and other relevant educational and promotional materials;

(iv) monitor and advise the Chief Executive Officer of the CNCS on the need for the enhancement of materials disseminated pursuant to subsection 2(b)(iii) of this order; and

(v) make recommendations from time to time to the President, through the Director of the USA Freedom Corps, on ways to encourage greater levels of volunteer service and civic participation by individuals, schools, and organizations.”

Sec. 2. Section 4(b) of Executive Order 13285 is revised to read as follows: “(b) Unless further extended by the President, this order shall expire on January 29, 2007.”

B

THE WHITE HOUSE,

Washington, January 27, 2005.

[FR Doc. 05-1886

Filed 1-28-05; 9:46 am]

Billing code 3195-01-P